DEPARTMENT OF TRANSPORTATION

Federal Aviation Administration

14 CFR Part 39

[Docket No. FAA-2012-1159; Directorate Identifier 2012-NM-028-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A310-203, -204, -222, -304, -322, and -324 airplanes. This proposed AD was prompted by a design review of the fuel tank access covers and analyses comparing compliance of the access covers to different tire burst models. `Type 21' panels located within the debris zone revealed that they could not sustain the impact of the tire debris. This proposed AD would require modifying the wing manhole surrounds and replacing certain fuel access panels. We are proposing this AD to prevent a possibility of a fire due to tire debris impact on the fuel access panels.

DATES: We must receive comments on this proposed AD by December 24, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2012-1159; Directorate Identifier 2012-NM-028-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0016, dated January 26, 2012 (referred to after this as “the MCAI”), to correct an unsafe condition for the specified products. The MCAI states:

Following a design review of the fuel tank access covers and further analyses aiming at comparing compliance of the access covers to different tyre burst models, panels `Type 21' revealed to be a matter of concern when located within the tyre debris zone. It has been demonstrated that '`Type 21' Super Plastic Formed (SPF) panels for fuel access, installed on left hand (LH) and right hand (RH) wings at manhole positions No. 1 and No. 2 of A310 aeroplanes pre-MSN500 could not sustain in an acceptable manner the impact of tyre debris.

This condition, if not corrected, could result, following tyre debris impact, in fuel leaking and consequently fire on that area of the aeroplane.

For the reasons described above, this [EASA] AD requires the replacement of SPF `Type 21' access panels with [type 11 access panels with]`Type 11A' [associated clamp plates] or `Type 21R' access panels and concurrent modification of the manhole surrounds at positions No.1 and No.2 to prevent re-installation of `'Type 21' panels at those positions.

You may obtain further information by examining the MCAI in the AD docket.

Relevant Service Information

Airbus has issued Service Bulletin A310-57-2033, dated July 15, 1989, and Mandatory Service Bulletin A310-57-2097, Revision 01, dated September 29, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 56 products of U.S. registry. We also estimate that it would take about 40 work-hours per product to comply with the basic requirements of this proposed AD. The average labor rate is $85 per work-hour. Required parts would cost about $6,340 per product. Where the service information lists required parts costs that are covered under warranty, we have assumed that there will be no charge for these parts. As we do not control warranty coverage for affected parties, some parties may incur costs higher than estimated here. Based on these figures, we estimate the cost of the proposed AD on U.S. operators to be $545,440, or $9,740 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-1159; Directorate Identifier 2012-NM-028-AD.

(a) Comments Due Date

We must receive comments by December 24, 2012.

(b) Affected ADs

None.

(c) Applicability

This AD applies to Airbus Model A310-203, -204, -222, -304, -322, and -324 airplanes, certificated in any category, manufacturer serial numbers 0378, 0392, 0399, 0404, 0406, 0407, 0409, 0410, 0412, 0413, 0416, 0418, 0419, 0421, 0422, 0424, 0425, 0427, 0428, 0429, 0431, 0432, 0434 to 0437 inclusive, 0439, 0440, 0441, 0443 to 0449 inclusive, 0451 to 0454 inclusive, 0456, 0457, 0458, 0467, 0472, 0473, 0475, 0476, 0478, 0480 to 0485 inclusive, and 0487 to 0499 inclusive.

(d) Subject

Air Transport Association (ATA) of America Code 57, Wings.

(e) Reason

This AD was prompted by a design review of the fuel tank access covers and analyses comparing compliance of the access covers to different tire burst models. `Type 21' panels located within the debris zone revealed that they could not sustain the impact of the tire debris. We are proposing this AD to prevent a possibility of a fire due to tire debris impact on the fuel access panels.

(f) Compliance

You are responsible for having the actions required by this AD performed within the compliance times specified, unless the actions have already been done.

(g) Actions

Within 60 months after the effective date of this AD, do the actions specified in paragraph (g)(1) or (g)(2) of this AD.

(1) Modify the wing manhole surrounds and replace the super plastic formed (SPF) `Type 21' fuel access panels at positions 1 and 2 on the left- and right-hand wings with `Type 11' fuel access panels with associated `Type 11A' clamp plates, in accordance with the Accomplishment Instructions of Airbus Mandatory Service Bulletin A310-57-2097, Revision 01, dated September 29, 2011.

(2) Modify the wing manhole surrounds and replace the SPF `Type 21' fuel access panels at positions 1 and 2 on the left- and right-hand wings with `Type 21R' fuel access panels, in accordance with the Accomplishment Instructions of Airbus Service Bulletin A310-57-2033, dated July 15, 1989.

(h) Parts Installation Prohibition

After accomplishing the modification required by paragraph (g) of this AD, no person may install SPF `Type 21' fuel access panels at positions 1 and 2 on the left- and right-hand wings, on any airplane.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to MCAI European Aviation Safety Agency Airworthiness Directive 2012-0016, dated January 26, 2012, and the service information specified in paragraphs (j)(1)(i) and (j)(1)(ii) of this AD, for related information.

(i) Airbus Service Bulletin A310-57-2033, dated July 15, 1989.

(ii) Airbus Mandatory Service Bulletin A310-57-2097, Revision 01, dated September 29, 2011.

(2) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Issued in Renton, Washington, on October 30, 2012.
Ali Bahrami,
Manager, Transport Airplane Directorate, Aircraft Certification Service.

[FR Doc. 2012-27124 Filed 11-6-12; 8:45 am]

BILLING CODE 4910-13-P